OCCUPATIONAL SAFETY AND HEALTH REVIEW COMMISSION

Sunshine Act Meeting

TIME AND DATE: 10:00 a.m. on February 10, 2000.

PLACE: The Commission's National Office at One Lafayette Centre, 1120 20th St., N.W., 9th Floor, Washington, DC 20036-3419.

STATUS: Pursuant to 29 CFR § 2203.3(a) this meeting will be open to the public.

MATTERS TO BE CONSIDERED: The meeting previously scheduled for February 10, 2000 will be opened to allow the Commission to discuss the evaluation of the Commission's pilot program for the Settlement Part (29 CFR § 2200.120) and of E-Z Trial (29 CFR §§ 2200.200-211). The Commission also will consider whether to extend the pilot program for the Settlement Part in order to complete the evaluation.

CONTACT PERSON FOR MORE INFORMATION: Earl R. Ohman, Jr., General Counsel, (202) 606-5410.

Earl R. Ohman, Jr.,
General Counsel.

[FR Doc. 00-2596 Filed 2-1-00; 4:18 pm]

BILLING CODE 7600-01-M